DEPARTMENT OF TRANSPORTATION

Federal Aviation Administration

Approval of Noise Compatibility Program for Bob Hope Airport, Burbank, California

AGENCY: Federal Aviation Administration, DOT.

ACTION: Notice.

SUMMARY: The Federal Aviation Administration (FAA) announces its findings on the noise compatibility program submitted by Burbank-Glendale-Pasadena Airport Authority under the provisions of 49 U.S.C. 47501 et seq. (formerly the Aviation Safety and Noise Abatement Act, hereinafter referred to as “the Act”) and 14 Code of Federal Regulations (CFR) Part 150 (hereinafter referred to as “Part 150”). These findings are made in recognition of the description of Federal and nonfederal responsibilities in Senate Report No. 96-52 (1990). On October 10, 2013, the FAA determined that the noise exposure maps submitted by Burbank-Glendale-Pasadena Airport Authority under Part 150 were in compliance with applicable requirements. On October 24, 2016, the FAA approved the Bob Hope Airport noise compatibility program. Fifteen (15) of the eighteen (18) total number of recommendations of the program were approved. Two (2) of the eighteen (18) total number of recommendations of the program were approved in part. For one (1) of the eighteen (18) program measures there was no action required at this time. No program elements relating to new or revised flight procedures for noise abatement were proposed by the airport operator.

DATES: Effective Date: The effective date of the FAA's approval of the noise compatibility program for Bob Hope Airport is October 24, 2016.

FOR FURTHER INFORMATION CONTACT: Victor Globa, Environmental Protection Specialist, Federal Aviation Administration, Los Angeles Airports District Office, Mailing Address: P.O. Box 92007, Los Angeles, California 90009-2007. Street Address: 15000 Aviation Boulevard, Lawndale, California 90261. Telephone: 310/725-3637. Documents reflecting this FAA action may be reviewed at this same location.

SUPPLEMENTARY INFORMATION: This notice announces that the FAA has given its overall approval to the noise compatibility program for Bob Hope Airport, effective October 24, 2016.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Part 150 is a local program, not a Federal program. The FAA does not substitute its judgment for that of the airport proprietor with respect to which measures should be recommended for action. The FAA's approval or disapproval of Part 150 program recommendations is measured according to the standards expressed in Part 150 and the Act and is limited to the following determinations:

a. The noise compatibility program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in Part 150, section 150.5. Approval is not a determination concerning the acceptability of land uses under Federal, state, or local law. Approval does not by itself constitute an FAA implementing action. A request for Federal action or approval to implement specific noise compatibility measures may be required. Prior to an FAA decision on a request to implement the action, an environmental review of the proposed action may be required. Approval does not constitute a commitment by the FAA to financially assist in the implementation of the program nor a determination that all measures covered by the program are eligible for grant-in-aid funding from the FAA. Where federal funding is sought, requests for project grants must be submitted to the FAA Los Angeles Airports District Office in the Western-Pacific Region.

Burbank-Glendale-Pasadena Airport Authority submitted to the FAA on June 27, 2013 the noise exposure maps, descriptions and other documentation produced during the noise compatibility planning study conducted from September 13, 2011 through October 24, 2016. The Bob Hope Airport noise exposure maps were determined by FAA to be in compliance with applicable requirements on October 10, 2013. Notice of this determination was published in the Federal Register (78 FR 64048) on October 25, 2013.

The Bob Hope Airport study contains a proposed noise compatibility program comprised of actions designed for phased implementation by airport management and adjacent jurisdictions from December 30, 2014 to the year 2017. It was requested that the FAA evaluate and approve this material as a noise compatibility program as described in section 47504 of the Act. The FAA began its review of the program on May 11, 2016, and was required by a provision of the Act to approve or disapprove the program within 180 days (other than the use of new or modified flight procedures for noise control). Failure to approve or disapprove such program within the 180-day period shall be deemed to be an approval of such program.

The submitted program contained 18 proposed actions for noise abatement, noise mitigation, land use planning and program management measures on and off the airport. The FAA completed its review and determined that the procedural and substantive requirements of the Act and Part 150 have been satisfied. The overall program was approved by the FAA, effective October 24, 2016.

FAA approval was granted for fifteen (15) specific program measures. The approved measures included such items as: Continue Requiring All Transport Category and Turbojet Aircraft to Comply with Federal Aircraft Noise Regulations; Continue Requiring Compliance with the Airport's Engine Test Run-up Policy; Continue Promoting Use of AC 91-53A, Noise Abatement Departure Procedures by Air Carrier Jets as voluntary only; Continue Promoting Use of NBAA Noise Abatement Procedures, or Equivalent Manufacturer Procedures, by General Aviation Jet Aircraft as voluntary only; Continue Working with the FAA Airport Traffic Control Tower to Maintain the Typical Traffic Pattern Altitude of 1,800 feet MSL as voluntary only; Continue the Placement of New Buildings on the Airport North of Runway 8-26 to Shield Nearby Neighborhood From Noise on Runway; Designate Runway 26 as Nighttime Preferential Departure Runway as voluntary only; Build Engine Maintenance Run-Up Enclosure; Revise Residential Acoustical Treatment Program to Include Single Family Homes Within 65 Community Noise Equivalent Level (CNEL) Contour Based on 2017 NEM that were constructed or existed before October 1, 1998; Establish Acoustical Treatment Program for Multi-Family Dwelling Units Within the 2017 Acoustical Treatment Eligibility Area that were constructed or existed before October 1, 1998; Provision for Retention or an Easement Preventing Noise-Sensitive Land Uses of Property Located in the Northeast Quadrant of the Airport within the 2017 65 CNEL Noise Exposure Contour (This measure would prevent the development of noise-sensitive land uses within the 65 CNEL noise contour and that would jeopardize the long-term viability of the airport.); Continue Noise Abatement Information Program (For the purpose of aviation safety, this approval does not extend to the use of monitoring equipment for enforcement purposes by in-situ measurement of any pre-set noise thresholds.); Monitor Implementation of Updated Noise Compatibility Program; Update Noise Exposure Maps and Noise Compatibility Program (In order to comply with 14 CFR part 150, the proposed changes should be submitted to FAA for approval after local consultation and a public hearing has been conducted.); Maintain Log of Nighttime Runway Use and Operations by Aircraft Type.

FAA approved in part, disapproved in part on two (2) specific program measures. The first approved in part, disapproved in part measure is: Continue Existing Acoustical Treatment Program for Single Family Homes. The portion of this measure that is approved is limited to single family homes that are located within the 65 CNEL noise contour for the forecasted year 2017 accepted by the FAA on October 10, 2013. The portion that is disapproved is acoustical treatment of homes that previously were within the 65 CNEL contour for the forecast year 2000 NEM submitted in 1988, but that are now outside of the 65 CNEL contours for the NEMs submitted with this Part 150 update; The second approved in part, disapproved in part measure is: For Otherwise Qualified Property Owners Who Have Been Unable to Participate in the Residential Acoustical Treatment Program (RATP) Due to Building Code Deficiencies, Offer to Purchase a Noise Easement as an Option for Owners of Single Family and Multi-Family Properties in the 2017 Acoustical Treatment Eligibility Area That Have Not Been Treated. The portion of this measure that is approved is the Airport Authority may offer avigation easements to property owners within the 2017 65 CNEL noise contour accepted by the FAA on October 10, 2013. The portions that are disapproved are the additional local requirements proposed for easement eligibility.

FAA determined that there is no action required at this time on one (1) specific program measure. This measure is Establish Noise Abatement Departure Turn for Jet Takeoffs on Runway 26. This measure relates to flight procedures under Section 104(b). Additional review by FAA is necessary to evaluate the operational safety, feasibility, and environmental effects of this proposal.

These determinations are set forth in detail in a Record of Approval signed by the Director, Office of Airports, Western-Pacific Region (AWP-600) on October 24, 2016. The Record of Approval, as well as other evaluation materials and the documents comprising the submittal, are available for review at the FAA office listed above and at the administrative offices of the Burbank-Glendale-Pasadena Airport Authority.

The Record of Approval also will be available on-line at: http://www.faa.gov/airports/environmental/airport_noise/part_150/states/

Issued in Hawthorne, California, on November 17, 2016.
Mark A. McClardy,
Director, Office of Airports, Western-Pacific Region.

[FR Doc. 2016-28291 Filed 11-22-16; 8:45 am]

BILLING CODE 4910-13-P